DEPARTMENT OF AGRICULTURE

Forest Service

DEPARTMENT OF THE INTERIOR

Bureau of Land Management

Revised Notice of Meetings, Santa Rosa and San Jacinto Mountains National Monument Advisory Committee

AGENCIES: Forest Service, U.S. Department of Agriculture; and Bureau of Land Management, U.S. Department of the Interior.

ACTION: Revised notice of meetings of the Santa Rosa and San Jacinto Mountains National Monument Advisory Committee for 2008 and 2009.

SUMMARY: The Santa Rosa and San Jacinto Mountains National Monument Advisory Committee (Monument Advisory Committee) will meet as indicated below.

DATES:

• September 15, 2008.

• March 16, 2009.

• September 21, 2009.

All meetings of the Monument Advisory Committee will start at 3 p.m. and conclude at 6 p.m.

ADDRESSES: Meetings of the Monument Advisory Committee will be held at the County of Riverside Permit Assistance Center, Second Floor Conference Room, 38686 El Cerrito Road, Palm Desert, California.

FOR FURTHER INFORMATION CONTACT: Jim Foote, Monument Manager, Santa Rosa and San Jacinto Mountains National Monument, c/o Bureau of Land Management, 690 West Garnet Ave., P.O. Box 581260, North Palm Springs, CA 92258; telephone (760) 251-4800; facsimile message (760) 251-4899; e-mail jfoote@ca.blm.gov.

SUPPLEMENTARY INFORMATION: This notice identifies a change in meeting dates and times for the remainder of 2008, as published in the Federal Register on August 23, 2007, and identifies meeting dates for 2009. While the September 6, 2008 meeting has been changed to September 15, 2008, the meeting of December 6, 2008 is cancelled.

Meetings of the Monument Advisory Committee focus on implementation of the Santa Rosa and San Jacinto Mountains National Monument Management Plan (2004). All meetings are open to the public. A public comment period when members of the public may address the Monument Advisory Committee will occur at 4 p.m. during each meeting. Written comments may be sent to the Monument Manager at the address shown above; however, transportation, lodging, and meals are the responsibility of the participating public.

Dated: July 9, 2008.
John R. Kalish,
Field Manager, Palm Springs-South Coast Field Office, California Desert District, Bureau of Land Management.
Dated: July 9, 2008.
Laurie Rosenthal,
District Ranger, San Jacinto Ranger District, San Bernardino National Forest, Forest Service.

[FR Doc. E8-16337 Filed 7-16-08; 8:45 am]

BILLING CODE 3410-11-P